DEPARTMENT OF THE INTERIOR

National Park Service

[NPS-WASO-NAGPRA-NPS0038667; PPWOCRADN0-PCU00RP14.R50000]

Notice of Inventory Completion: University of Texas at San Antonio, Center for Archaeological Research, San Antonio, TX

AGENCY: National Park Service, Interior.

ACTION: Notice.

SUMMARY: In accordance with the Native American Graves Protection and Repatriation Act (NAGPRA), the University of Texas at San Antonio (UTSA) Center for Archaeological Research (CAR) has completed an inventory of human remains and associated funerary objects and has determined that there is a cultural affiliation between the human remains and associated funerary objects and Indian Tribes or Native Hawaiian organizations in this notice.

DATES: Repatriation of the human remains and associated funerary objects in this notice may occur on or after October 10, 2024.

ADDRESSES: Cynthia Munoz, Center for Archaeological Research (CAR), One UTSA Circle, San Antonio, TX 78249, telephone (210) 458-4379, email cindy.munoz@utsa.edu.

SUPPLEMENTARY INFORMATION: This notice is published as part of the National Park Service's administrative responsibilities under NAGPRA. The determinations in this notice are the sole responsibility of the CAR, and additional information on the determinations in this notice, including the results of consultation, can be found in its inventory or related records. The National Park Service is not responsible for the determinations in this notice.

Abstract of Information Available

Human remains representing, at least, 58 individuals have been identified. The 80 associated funerary objects are bone awls, bone beads, one possible bone bead, bone pins, one incised bone, modified bone, possibly modified bone, one shark tooth, one sting ray spine, one turtle shell, lithic bifaces, one lithic blade, one possible boatstone, lithic dart points, lithic debitage, red ochre (74 grams), marine shell, one modified shell, and shell pendants. The remains and associated funerary objects are associated with the 1990-1991 and 1997-1998 Houston Archaeological Society archaeological investigations of 41FB3, the Bowser Site, in Fort Bend County, Texas. The burials and objects were donated by the land owner to CAR in 2016. The land owner retained most of the grave goods. The remains consist of 13 adult females, 25 adult males, five adults of indeterminate sex, 13 juveniles, and two individuals of indeterminate age and sex. The burials represent Native Americans from the Late Archaic Period, 2500 BC-AD 600/700, based on dates of two burials obtained by the original investigators. Recovered point types, including Pedernales, Marshall, Gary, Kent, Morhiss, Ensor, and Ellis, are consistent with the time period. No known hazardous substances were used to treat the remains or objects.

Cultural Affiliation

Based on the information available and the results of consultation, cultural affiliation is reasonably identified by the geographical location or acquisition history of the human remains and associated funerary objects described in this notice.

Determinations

The CAR has determined that:

• The human remains described in this notice represent the physical remains of 58 individuals of Native American ancestry.

• The 80 objects described in this notice are reasonably believed to have been placed intentionally with or near individual human remains at the time of death or later as part of the death rite or ceremony.

• There is a connection between the human remains and associated funerary objects described in this notice and the Tonkawa Tribe of Indians of Oklahoma.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after October 10, 2024. If competing requests for repatriation are received, the CAR must determine the most appropriate requestor prior to repatriation. Requests for joint repatriation of the human remains and associated funerary objects are considered a single request and not competing requests. The CAR is responsible for sending a copy of this notice to the Indian Tribes and Native Hawaiian organizations identified in this notice.

Authority: Native American Graves Protection and Repatriation Act, 25 U.S.C. 3003, and the implementing regulations, 43 CFR 10.10.

Dated: August 29, 2024.
Melanie O'Brien,
Manager, National NAGPRA Program.

[FR Doc. 2024-20293 Filed 9-9-24; 8:45 am]

BILLING CODE 4312-52-P